DEPARTMENT OF THE INTERIOR

Bureau of Reclamation

Glen Canyon Dam Adaptive Management Work Group (AMWG), Notice of Meeting

AGENCY: Bureau of Reclamation, Interior.

ACTION: Notice of public meetings.

SUMMARY: The Adaptive Management Program (AMP) was implemented as a result of the Record of Decision on the Operation of Glen Canyon Dam Final Environmental Impact Statement to comply with consultation requirements of the Grand Canyon Protection Act (Pub. L. 102-575) of 1992. The AMP provides an organization and process to ensure the use of scientific information in decision making concerning Glen Canyon Dam operations and protection of the affected resources consistent with the Grand Canyon Protection Act. The AMP has been organized and includes a federal advisory committee (the AMWG), a technical work group (the TWG), a monitoring and research center, and independent review panels. The TWG is a subcommittee of the AMWG and provides technical advice and information for the AMWG to act upon.

Date and Location: The Glen Canyon Dam Adaptive Management Work Group will conduct the following public meeting:

Phoenix, Arizona—January 28-29, 2003. The meeting will begin at 9:30 a.m. and conclude at 5 p.m. on the first day and begin at 8 a.m. and conclude at 12 noon on the second day. The meeting will be held at the Bureau of Indian Affairs—Western Regional Office, 2 Arizona Center, Conference Rooms A and B (12th floor), 400 North 5th Street, Phoenix, Arizona.

Agenda: The purpose of the meeting will be to discuss experimental flows, non-native fish control, status of the temperature control device risk assessment, 2000 Low Steady Summer Flow (LSSF) reports, FY 2004 Annual Work Plan and Budget, basin hydrology and 602a storage, information needs associated with the Strategic Plan, public outreach, environmental compliance, and other administrative and resource issues pertaining to the AMP.

Date and Location: The Glen Canyon Dam Technical Work Group will conduct the following public meeting:

Phoenix, Arizona—February 26-27, 2003. The meeting will begin 9:30 a.m. and conclude at 5 p.m. on the first day and will begin at 8 a.m. and conclude at 2 p.m. on the second day. The meeting will be held at the Bureau of Indian Affairs—Western Regional Office, 2 Arizona Center, Conference Rooms A and B (12th floor), 400 North 5th Street, Phoenix, Arizona.

Agenda: The purpose of the meeting will be to discuss the experimental flow status, non-native fish control, FY 2004 budget changes, the target development process, environmental compliance, address assignments from the AMWG meeting held in January 2003, and other administrative and resource issues pertaining to the AMP.

Agenda items may be revised prior to any of the meetings. Final agendas will be posted 15 days in advance of each meeting and can be found on the Bureau of Reclamation Web site under Environmental Programs at http://www.uc.usbr.gov/amp. Time will be allowed on each agenda for any individual or organization wishing to make formal oral comments (limited to 10 minutes) at the meetings.

To allow full consideration of information by the AMWG or TWG members, written notice must be provided to Randall Peterson, Bureau of Reclamation, Upper Colorado Regional Office, 125 South State Street, Room 6107, Salt Lake City, Utah 84138-1147; telephone (801) 524-3758; faxogram (801) 524-3858; e-mail at rpeterson@uc.usbr.gov at least FIVE (5) days prior to the meeting. Any written comments received will be provided to the AMWG and TWG members at their respective meetings.

FOR FURTHER INFORMATION CONTACT: Randall Peterson, telephone (801) 524-3758; faxogram (801) 524-3858; or viae-mail at rpeterson@uc.usbr.gov.

Date: December 18, 2002.
Randall V. Peterson,
Manager, Adaptive Management and Environmental Resources Division, Upper Colorado Regional Office.

[FR Doc. 03-371 Filed 1-8-03; 8:45 am]

BILLING CODE 4310-MN-O